DEPARTMENT OF AGRICULTURE

Deschutes Provincial Advisory Committee (DPAC)

AGENCY: Forest Service.

ACTION: Notice of meeting.

SUMMARY: The Deschutes Provincial Advisory Committee will meet on April 4, 2012 to review the annual program of work, finalize key items for the fall field meetings, and listen to a presentation on the Deschutes County wetlands inventory. The meeting will also provide updates on the Collaborative Forest Landscape Restoration Act (CFLRA) and the sustainable recreation subcommittee. Members will meet at the Deschutes National Forest Supervisors office (63095 Deschutes Market Road, Bend, Oregon) from 9 a.m. until 1 p.m. All Deschutes Provincial Advisory Committee meetings are open to the public.

FOR FURTHER INFORMATION CONTACT: Michael Keown, Province Liaison, Sisters Ranger District, Pine Street and Highway 20, Sisters, Oregon 97759, Phone (541) 549-7735.

John Allen,
Deschutes National Forest Supervisor.

[FR Doc. 2012-6770 Filed 3-21-12; 8:45 am]

BILLING CODE 3410-11-M